DEPARTMENT OF HEALTH AND HUMAN SERVICES

Food and Drug Administration

Anesthetic and Life Support Drugs Advisory Committee; Amendment of Notice

AGENCY: Food and Drug Administration, HHS.

ACTION: Notice.

The Food and Drug Administration (FDA) is announcing an amendment to the notice of meeting of the Anesthetic and Life Support Drugs Advisory Committee. This meeting was announced in the Federal Register of October 8, 2003 (68 FR 58115). The amendment is being made to reflect a change in the Agenda portion of the document. There are no other changes.

FOR FURTHER INFORMATION CONTACT: Johanna Clifford, Center for Drug Evaluation and Research (HFD-21), Food and Drug Administration, 5600 Fishers Lane (for express delivery, 5630 Fishers Lane, rm. 1093), Rockville MD 20857, 301-827-7001, or FDA Advisory Committee Information Line, 1-800-741-8138 (301-443-0572 in the Washington, DC area), code 12529. Please call the Information Line for up-to-date information on this meeting.

SUPPLEMENTARY INFORMATION: In the Federal Register of October 8, 2003, FDA announced that a meeting of the Anesthetic and Life Support Drugs Advisory Committee would be held on November 18 and 19, 2003. On pages 58115-58116, in the third column, the Agenda portion of the meeting is amended to read as follows:

Agenda: On November 18, 2003, the committee will discuss the evaluation and communication of risk related to QTc prolongation by Droperidol (INAPSINE) Akorn, Inc.

This notice is issued under the Federal Advisory Committee Act (5 U.S.C. app. 2) and 21 CFR part 14, relating to advisory committees.

Dated: November 14, 2003.
Peter J. Pitts,
Associate Commissioner for External Relations.

[FR Doc. 03-28870 Filed 11-14-03; 8:45 am]

BILLING CODE 4160-01-S